DEPARTMENT OF ENERGY

Federal Energy Regulatory Commission

Combined Notice of Filings

Take notice that the Commission has received the following Natural Gas Pipeline Rate and Refund Report filings:

Filings Instituting Proceedings

Docket Numbers: RP16-397-000,

Applicants: Iroquois Gas Transmission System, L.P.

Description: § 4(d) Rate Filing: 01/20/16 Negotiated Rates—Mercuria Energy Gas Trading LLC (HUB) 7540-89 to be effective 1/19/2016.

Filed Date: 1/20/16.

Accession Number: 20160120-5069.

Comments Due: 5 p.m. ET 2/1/16.

Docket Numbers: RP16-398-000.

Applicants: Iroquois Gas Transmission System, L.P.

Description: § 4(d) Rate Filing: 01/20/16 Negotiated Rates—Sequent Energy Management (HUB) 3075-89 to be effective 1/19/2016.

Filed Date: 1/20/16.

Accession Number: 20160120-5070.

Comments Due: 5 p.m. ET 2/1/16.

Docket Numbers: RP16-399-000.

Applicants: Equitrans, L.P.

Description: § 4(d) Rate Filing: Service Priority Update to be effective 2/20/2016.

Filed Date: 1/20/16.

Accession Number: 20160120-5144.

Comments Due: 5 p.m. ET 2/1/16.

Docket Numbers: RP16-400-000.

Applicants: Gulf South Pipeline Company, LP.

Description: § 4(d) Rate Filing: Rate Case Settlement Amendment Filing 8 to be effective 12/1/2015.

Filed Date: 1/21/16.

Accession Number: 20160121-5065.

Comments Due: 5 p.m. ET 2/2/16.

Docket Numbers: RP16-401-000.

Applicants: High Point Gas Transmission, LLC.

Description: Compliance filing Compliance of Cost and Revenue Study.

Filed Date: 1/22/16.

Accession Number: 20160122-5044.

Comments Due: 5 p.m. ET 2/3/16.

Docket Numbers: RP16-402-000.

Applicants: Empire Pipeline, Inc.

Description: § 4(d) Rate Filing: Update to ISS Rate Schedule (Empire) to be effective 1/1/2016.

Filed Date: 1/22/16.

Accession Number: 20160122-5065.

Comments Due: 5 p.m. ET 2/3/16.

Docket Numbers: RP16-403-000.

Applicants: Texas Eastern Transmission, LP.

Description: § 4(d) Rate Filing: Negotiated Rates—Feb 2016. Chevron TEAM2014 Releases to be effective 2/1/2016.

Filed Date: 1/27/16.

Accession Number: 20160127-5000.

Comments Due: 5 p.m. ET 2/8/16.

Docket Numbers: RP16-404-000.

Applicants: Algonquin Gas Transmission, LLC.

Description: § 4(d) Rate Filing: Negotiated Rates for Feb 2016. Colonial Releases to be effective 2/1/2016.

Filed Date: 1/27/16.

Accession Number: 20160127-5016.

Comments Due: 5 p.m. ET 2/8/16.

Docket Numbers: RP16-405-000.

Applicants: Transcontinental Gas Pipe Line Company,

Description: § 4(d) Rate Filing: Negotiated Rates—Cherokee AGL—Replacement Shippers—Feb 2016 to be effective 2/1/2016.

Filed Date: 1/27/16.

Accession Number: 20160127-5070.

Comments Due: 5 p.m. ET 2/8/16.

Docket Numbers: RP16-406-000.

Applicants: Big Sandy Pipeline, LLC.

Description: Compliance filing Big Sandy Fuel Filing effective 3-1-2016.

Filed Date: 1/27/16.

Accession Number: 20160127-5080.

Comments Due: 5 p.m. ET 2/8/16.

Docket Numbers: RP16-407-000.

Applicants: Transcontinental Gas Pipe Line Company,

Description: § 4(d) Rate Filing: Maiden Delivery Lateral 3 Yr Update Filing to be effective 3/1/2016.

Filed Date: 1/27/16.

Accession Number: 20160127-5108.

Comments Due: 5 p.m. ET 2/8/16.

Docket Numbers: RP16-408-000.

Applicants: Kinder Morgan Illinois Pipeline LLC.

Description: Penalty Revenue Crediting Report of Kinder Morgan Illinois Pipeline LLC.

Filed Date: 1/27/16.

Accession Number: 20160127-5180.

Comments Due: 5 p.m. ET 2/8/16.

Docket Numbers: RP16-409-000.

Applicants: Panhandle Eastern Pipe Line Company, LP.

Description: Compliance filing NAESB Version 3.0 Compliance to be effective 4/1/2016.

Filed Date: 1/27/16.

Accession Number: 20160127-5209.

Comments Due: 5 p.m. ET 2/8/16.

Docket Numbers: RP16-410-000.

Applicants: Trunkline Gas Company, LLC.

Description: Compliance filing NAESB Version 3.0 Compliance to be effective 4/1/2016.

Filed Date: 1/27/16.

Accession Number: 20160127-5212.

Comments Due: 5 p.m. ET 2/8/16.

Docket Numbers: RP16-411-000.

Applicants: Iroquois Gas Transmission System, L.P.

Description: § 4(d) Rate Filing: 01/27/16 Negotiated Rates—Mercuria Energy Gas Trading LLC (HUB) 7540-89 to be effective 1/23/2016.

Filed Date: 1/27/16.

Accession Number: 20160127-5223.

Comments Due: 5 p.m. ET 2/8/16.

Docket Numbers: RP16-412-000.

Applicants: Golden Triangle Storage, Inc.

Description: Compliance filing Proposed Revisions to FERC Gas Tariff to Comply With Order No. 587-W to be effective 4/1/2016.

Filed Date: 1/27/16.

Accession Number: 20160127-5230.

Comments Due: 5 p.m. ET 2/8/16.

Docket Numbers: RP16-413-000.

Applicants: Granite State Gas Transmission, Inc.

Description: Compliance filing Compliance to Commission Order 587-W to be effective 4/1/2016.

Filed Date: 1/27/16.

Accession Number: 20160127-5299.

Comments Due: 5 p.m. ET 2/8/16.

Docket Numbers: RP16-414-000.

Applicants: Midwestern Gas Transmission Company.

Description: § 4(d) Rate Filing: Non-Conforming and Negotiated Rate Agreements—Northern Illinois Gas Company to be effective 2/1/2016.

Filed Date: 1/27/16.

Accession Number: 20160127-5394.

Comments Due: 5 p.m. ET 2/8/16.

Docket Numbers: RP16-415-000.

Applicants: Florida Gas Transmission Company, LLC.

Description: Compliance filing NAESB Version 3.0 Compliance to be effective 4/1/2016.

Filed Date: 1/27/16.

Accession Number: 20160127-5411.

Comments Due: 5 p.m. ET 2/8/16.

Docket Numbers: RP16-416-000.

Applicants: Kinetica Energy Express, LLC.

Description: Compliance filing Compliance Filing for Order Nos. 587-W and 809 to be effective 4/1/2016.

Filed Date: 1/27/16.

Accession Number: 20160127-5442.

Comments Due: 5 p.m. ET 2/8/16.

Docket Numbers: RP16-417-000.

Applicants: Questar Overthrust Pipeline Company.

Description: § 4(d) Rate Filing: ? 13.1 Version 4.0.0 to be effective 3/1/2016.

Filed Date: 1/28/16.

Accession Number: 20160128-5041.

Comments Due: 5 p.m. ET 2/9/16.

Docket Numbers: RP16-418-000.

Applicants: Southern LNG Company, L.L.C.

Description: § 4(d) Rate Filing: Dredging Surcharge Cost Adjustment—2016 to be effective 3/1/2016.

Filed Date: 1/28/16.

Accession Number: 20160128-5043.

Comments Due: 5 p.m. ET 2/9/16.

Docket Numbers: RP16-419-000.

Applicants: Great Lakes Gas Transmission Limited Par.

Description: Semi-Annual Transporter's Use Report of Great Lakes Gas Transmission Limited Partnership.

Filed Date: 1/28/16.

Accession Number: 20160128-5092.

Comments Due: 5 p.m. ET 2/9/16.

Docket Numbers: RP16-420-000.

Applicants: Kinder Morgan Louisiana Pipeline Company.

Description: Penalty Revenue Crediting Report of Kinder Morgan Louisiana Pipeline Company LLC.

Filed Date: 1/28/16.

Accession Number: 20160128-5158.

Comments Due: 5 p.m. ET 2/9/16.

Docket Numbers: RP16-421-000.

Applicants: MoGas Pipeline LLC.

Description: § 4(d) Rate Filing: MoGas NRA Filing to be effective 2/1/2016.

Filed Date: 1/28/16.

Accession Number: 20160128-5215.

Comments Due: 5 p.m. ET 2/9/16.

Docket Numbers: RP16-422-000.

Applicants: Monroe Gas Storage Company, LLC.

Description: Compliance filing MGS—Order 809—Compliance Filing—Scheduling Timeline to be effective 4/1/2016.

Filed Date: 1/28/16.

Accession Number: 20160128-5224.

Comments Due: 5 p.m. ET 2/9/16.

Docket Numbers: RP16-423-000.

Applicants: Perryville Gas Storage LLC.

Description: Compliance filing PER—Order 809—Compliance Filing—Scheduling Timeline to be effective 4/1/2016.

Filed Date: 1/28/16.

Accession Number: 20160128-5233.

Comments Due: 5 p.m. ET 2/9/16.

Docket Numbers: RP16-424-000.

Applicants: Cadeville Gas Storage LLC.

Description: Compliance filing CAD—Order 809—Compliance Filing—Scheduling Timeline to be effective 4/1/2016.

Filed Date: 1/28/16.

Accession Number: 20160128-5236.

Comments Due: 5 p.m. ET 2/9/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-101-006.

Applicants: Florida Gas Transmission Company, LLC.

Description: Compliance filing RP15-101 Settlement Compliance Filing to be effective 2/1/2016.

Filed Date: 1/20/16.

Accession Number: 20160120-5134.

Comments Due: 5 p.m. ET 2/1/16.

Docket Numbers: RP16-233-002.

Applicants: SG Resources Mississippi, L.L.C.

Description: Compliance filing SG Resources Mississippi, L.L.C.—Revised Compliance Filing to be effective 12/31/2015.

Filed Date: 1/21/16.

Accession Number: 20160121-5069.

Comments Due: 5 p.m. ET 2/2/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2016.
Nathaniel J. Davis, Sr.,
Deputy Secretary.

[FR Doc. 2016-02253 Filed 2-4-16; 8:45 am]

BILLING CODE 6717-01-P